DEPARTMENT OF AGRICULTURE

National Agricultural Statistics Service

Notice of Intent To Reduce the Frequency of Rice and Potato Stocks Surveys and All Associated Reports

AGENCY: National Agricultural Statistics Service, USDA.

ACTION: Notice of reduction in data collection and publication.

SUMMARY: This notice announces the intention of the National Agricultural Statistics Service (NASS) to reduce the currently approved information collections for rice and potato stocks that are currently approved under OMB # 0535-0007.

Under the current OMB approval the Potato Stocks Survey is conducted on a monthly basis from December through June of each year. Under this reduction NASS plans to discontinue the collecting and publishing of potato stock data for the months of January, March and May. In the four remaining months (December, February, April and June) there will be no changes to the surveys or the publications.

The Rice Stocks Survey is currently conducted in January, March, June, August, September, and October (only California for October). Under this reduction, NASS plans to discontinue the collection of data in September, along with the related publication.

FOR FURTHER INFORMATION CONTACT: Joseph T. Reilly, Associate Administrator, National Agricultural Statistics Service, U.S. Department of Agriculture, (202) 720-4333, or through the NASS OMB Clearance Officer at ombofficer@nass.usda.gov.

SUPPLEMENTARY INFORMATION: Title: Reduction in the Frequency of Rice and Potato Stocks Surveys and Publications.

OMB Control Numbers: 0535-0007.

Expiration Dates of Approval: November 30, 2012.

Type of Request: To reduce the frequency of the rice and potato stocks surveys along with the resulting publications.

Abstract: The primary functions of the National Agricultural Statistics Service include the collection of data and the preparation and issuance of state and national estimates of crop and livestock production, disposition, prices, and environmental and economic factors.

Timeline: NASS will suspend this information collection as of December 19, 2011 due to budget constraints. NASS will not issue any publications that would normally be generated from any of the suspended stocks surveys, unless there is a change in the anticipated budget shortfall.

Authority: These data were collected under authority of 7 U.S.C. 2204(a) (General Duties of the Secretary of Agriculture). Individually identifiable data collected under this authority are governed by Section 1770 of the Food Security Act of 1985, 7 U.S.C. 2276, which requires USDA to afford strict confidentiality to non-aggregated data provided by respondents.

Estimate of Burden: There will be no further public reporting burden for this collection of information.

Signed at Washington, DC, on October 25, 2011.
Joseph T. Reilly,
Associate Administrator.

[FR Doc. 2011-32342 Filed 12-16-11; 8:45 am]

BILLING CODE 3410-20-P